DEPARTMENT OF THE INTERIOR

Bureau of Land Management

[LLIDI00000-L11200000-PH0000]

Notice of Public Meeting, Idaho Falls District Resource Advisory Council Meeting

AGENCY: Bureau of Land Management, Interior.

ACTION: Notice of public meetings.

SUMMARY: In accordance with the Federal Land Policy and Management Act (FLPMA) and the Federal Advisory Committee Act of 1972 (FACA), the U.S. Department of the Interior, Bureau of Land Management (BLM) Idaho Falls District Resource Advisory Council (RAC), will meet as indicated below.

DATES: The Idaho Falls District RAC will meet in Challis, Idaho, April 23-24, 2013 for a two-day meeting at the Challis Field Office, 1151 Blue Mountain Road, Challis, Idaho 83226. The first day will begin at 10:00 a.m. and adjourn at 5:00 p.m. The second day will begin at 8:30 a.m. and adjourn at 2:30 p.m. Members of the public are invited to attend. A comment period will be held following the introductions from 10:00-10:30 a.m. All meetings are open to the public.

SUPPLEMENTARY INFORMATION: The 15-member Council advises the Secretary of the Interior, through the Bureau of Land Management, on a variety of planning and management issues associated with public land management in the BLM Idaho Falls District (IFD), which covers eastern Idaho.

Items on the agenda include an overview and tour of the Thompson Creek Mine and proposed Broken Wing Ranch Land Exchange.

The Recreation RAC will convene at approximately 11:15 a.m. to discuss the Caribou-Targhee National Forest proposed new cabin rental fee for the Al Taylor Cabin in Dubois and the Salmon Challis National Forest will provide some informational material regarding potential changes to the river lottery system. Following the morning part of the meeting, a tour of the Broken Wing Ranch will be conducted. The second day RAC members will meet briefly at the office to discuss Thompson Creek Mine and then head to the mine for a tour.

All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM as provided below.

FOR FURTHER INFORMATION CONTACT: Sarah Wheeler, RAC Coordinator, Idaho Falls District, 1405 Hollipark Dr., Idaho Falls, ID 83401. Telephone: (208) 524-7550. Email: sawheeler@blm.gov.

Dated: March 11, 2013.
Sarah Wheeler,
District RAC Coordinator.

[FR Doc. 2013-06622 Filed 3-21-13; 8:45 am]

BILLING CODE 4310-GG-P